DEPARTMENT OF COMMERCE

Foreign-Trade Zones Board

[Docket 52-2000]

Foreign-Trade Zone 44—Mount Olive, New Jersey, Area Application for Expansion; Extension of Public Comment Period

The comment period for the above case, submitted by the New Jersey Commerce and Economic Growth Commission, requesting authority to expand its zone to include a site in Cranbury Township (65 FR 52984, August 31, 2000), is extended to December 29, 2000, to allow interested parties additional time in which to comment on the proposal. The period for rebuttal comments is extended to January 31, 2001.

Submissions should include three (3) copies. Material submitted will be available at: Office of the Executive Secretary, Foreign-Trade Zones Board, U.S. Department of Commerce, Room 4008, 14th and Pennsylvania Avenue, NW, Washington, DC 20230.

Dated: November 30, 2000.
Dennis Puccinelli,
Executive Secretary.

[FR Doc. 00-31110 Filed 12-5-00; 8:45 am]

BILLING CODE 3510-DS-P